ENVIRONMENTAL PROTECTION AGENCY

[FRL OP-OFA-062]

Environmental Impact Statements; Notice of Availability

Responsible Agency: Office of Federal Activities, General Information 202-564-5632 or https://www.epa.gov/nepa.

Weekly Receipt of Environmental Impact Statements (EIS)

Filed March 13, 2023 10 a.m. EST Through March 20, 2023 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230041, Draft Supplement, USFS, AK, Greens Creek Mine North Extension Project, Comment Period Ends: 05/08/2023, Contact: Matthew Reece 907-789-6274.

Amended Notice: EIS No. 20230007, Draft, TxDOT, TX, US 380 McKinney, Comment Period Ends: 04/05/2023, Contact: Doug Booher 512-416-2663.

Revision to FR Notice Published 01/20/2023; Extending the Comment Period from 03/21/2023 to 04/05/2023.

EIS No. 20230028, Draft, USFWS, CO, Colorado Gray Wolf 10(j) Rulemaking, Comment Period Ends: 04/18/2023, Contact: Nicole Alt 303-236-4213.

Revision to FR Notice Published 02/17/2023; Extending the Comment Period from 04/03/2023 to 04/18/2023.

Dated: March 20, 2023.
Cindy S. Barger,
Director, NEPA Compliance Division, Office of Federal Activities.

[FR Doc. 2023-06098 Filed 3-23-23; 8:45 am]

BILLING CODE 6560-50-P